DEPARTMENT OF DEFENSE

GENERAL SERVICES ADMINISTRATION

NATIONAL AERONAUTICS AND SPACE ADMINISTRATION

48 CFR Chapter 1

[Docket No. FAR 2018-0001, Sequence No. 6]

Federal Acquisition Regulation; Federal Acquisition Circular 2019-01; Introduction

AGENCY: Department of Defense (DoD), General Services Administration (GSA), and National Aeronautics and Space Administration (NASA).

ACTION: Summary presentation of a final rule.

SUMMARY: This document summarizes the Federal Acquisition Regulation (FAR) rule agreed to by the Civilian Agency Acquisition Council and the Defense Acquisition Regulations Council (Councils) in this Federal Acquisition Circular (FAC) 2019-01. A companion document, the Small Entity Compliance Guide (SECG), follows this FAC. The FAC, including the SECG, is available via the internet at http://www.regulations.gov.

DATES: For effective date see the separate document, which follows.

FOR FURTHER INFORMATION CONTACT: Ms. Cecelia Davis, Procurement Analyst, at 202-219-0202 for clarification of content. For information pertaining to status or publication schedules, contact the Regulatory Secretariat Division at 202-501-4755. Please cite FAC 2019-01, FAR case 2015-017.

Rule Listed in FAC 2019-01
Subject | FAR case | Analyst
Combating Trafficking in Persons—Definition of “Recruitment Fees” | 2015-017 | Davis.

SUPPLEMENTARY INFORMATION: A summary for the FAR rule follows. For the actual revisions and/or amendments made by this FAR Case, refer to the specific item number and subject set forth in the document following this item summary. FAC 2019-01 amends the FAR as follows:

Combating Trafficking in Persons—Definition of “Recruitment Fees” (FAR Case 2015-017)

This final rule amends the Federal Acquisition Regulation (FAR) to provide a definition of “recruitment fees” in FAR subpart 22.17 and the associated clause at FAR 52.222-50 to further implement the FAR policy on combating trafficking in persons. One element in combating trafficking in persons is to prohibit contractors from charging employees or potential employees recruitment fees.

This final rule will not have a significant economic impact on a substantial number of small entities.

Federal Acquisition Circular (FAC) 2019-01 is issued under the authority of the Secretary of Defense, the Administrator of General Services, and the Administrator for the National Aeronautics and Space Administration.

Unless otherwise specified, all Federal Acquisition Regulation (FAR) and other directive material contained in FAC 2019-01 is effective December 20, 2018 except for FAR Case 2015-017, which is effective January 22, 2019.

Dated: December 10, 2018.
William F. Clark,
Director, Office of Government-wide Acquisition Policy, Office of Acquisition Policy, Office of Government-wide Policy.
Dated: December 14, 2018.
Kim Herrington,
Acting Principal Director, Defense Pricing and Contracting.
Dated: December 11, 2018.
Jeffrey A. Koses,
Senior Procurement Executive/Deputy CAO, Office of Acquisition Policy, U.S. General Services Administration.
Dated: December 13, 2018.
William G. Roets, II,
Acting Assistant Administrator, Office of Procurement National Aeronautics and Space Administration.

[FR Doc. 2018-27540 Filed 12-19-18; 8:45 am]

BILLING CODE 6820-EP-P